DEPARTMENT OF ENERGY

Federal Energy Regulatory Commission

Notice of Intent To File License Application, Filing of Pre-Application Document, Commencement of Licensing Proceeding, Scoping Meetings, Solicitation of Comments on the Pad and Scoping Document, and Identification of Issues and Associated Study Requests

June 13, 2006.

a. Type of Filing: Notice of Intent to File License Application for a New License and Commencing Licensing Proceeding.

b. Project No.: 2985-004.

c. Dated Filed: April 14, 2006.

d. Applicant: MeadWestvaco.

e. Name of Project: Willow Mill Hydroelectric Project.

f. Location: On the Housatonic River in Berkshire County, Massachusetts. The project does not occupy Federal lands.

g. Filed Pursuant to: 18 CFR Part 5 of the Commission's Regulations.

h. Applicant Contact: Mr. Scott Phelps, MeadWestvaco, 40 Willow Street, South Lee, Massachusetts 01260, (413) 243-5963.

i. FERC Contact: Kristen Murphy, (202) 502-6236, or via e-mail at kristen.murphy@ferc.gov.

j. We are asking Federal, State, local, and tribal agencies with jurisdiction and/or special expertise with respect to environmental issues to cooperate with us in the preparation of the environmental document. Agencies who would like to request cooperating status should follow the instructions for filing comments described in paragraph o below. Cooperating agencies should note the Commission's policy that agencies that cooperate in the preparation of the environmental document cannot also intervene. See, 94 FERC ¶ 61,076 (2001).

k. With this notice, we are initiating informal consultation with: (a) The U.S. Fish and Wildlife Service and/or NOAA Fisheries under section 7 of the Endangered Species Act and the joint agency regulations thereunder at 50 CFR, Part 402; and (b) the State Historic Preservation Officer, as required by section 106, National Historical Preservation Act, and the implementing regulations of the Advisory Council on Historic Preservation at 36 CFR 800.2.

l. With this notice, we are designating MeadWestvaco as the Commission's non-Federal representative for carrying out informal consultation, pursuant to section 7 of the Endangered Species Act and section 106 of the National Historic Preservation Act.

m. MeadWestvaco filed a Pre-Application Document (PAD) pursuant to 18 CFR 5.6 of the Commission's regulations. The Commission issued Scoping Document 1 (SD1) on June 12, 2006.

n. A copy of the PAD and SD1 are available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. Copies are also available for inspection and reproduction at the address in paragraph h.

Register online at http://ferc.gov/esubscribenow.htm to be notified via e-mail of new filing and issuances related to this or other pending projects. For assistance, contact FERC Online Support.

o. With this notice, we are soliciting comments on the PAD and SD1, as well as study requests. All comments on the PAD and SD1, and study requests should be sent to the address above in paragraph h. In addition, all comments on the PAD and SD1, study requests, requests for cooperating agency status, and all communications to and from Commission staff related to the merits of the potential application (original and eight copies) must be filed with the Commission at the following address: Magalie R. Salas, Secretary, Federal Energy Regulatory Commission, 888 First Street, NE., Washington, DC 20426. All filings with the Commission must include on the first page, the project name (Willow Mill Project) and number (P-2985-004), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by August 12, 2006.

Comments on the PAD and SD1, study requests, requests for cooperating agency status, and other permissible forms of communications with the Commission may be filed electronically via the Internet in lieu of paper. The Commission strongly encourages electronic filings. See 18 CFR 385.2001(a)(1)(iii) and the instructions on the Commission's Web site (http://www.ferc.gov) under the “efiling” link.

p. Although our current intent is to prepare an environmental assessment (EA), there is the possibility that an Environmental Impact Statement (EIS) will be required. Nevertheless, this scoping process will satisfy the NEPA scoping requirements, irrespective of whether an EA or EIS is issued by the Commission.

Scoping Meetings

Commission staff will hold two scoping meetings in the vicinity of the project at the times and places noted below. The daytime meeting will focus on resource agency, Indian tribes, and non-governmental organization concerns, while the evening meeting is primarily for receiving input from the public. We invite all interested individuals, organizations, and agencies to attend these meetings, and to assist staff in identifying particular study needs, as well as the scope of environmental issues to be addressed in the environmental document. The times and locations of these meetings are as follows:

Evening Scoping Meeting

Date and Time: Wednesday, July 12, 2006, 7 p.m., EST.

Location: First Congregational Church of Stockbridge, 4 Main Street, Stockbridge, MA 01262. (413) 298-3137.

Daytime Scoping Meeting

Date and Time: Thursday, July 13, 2006, 10 a.m., EST.

Location: First Congregational Church of Stockbridge, 4 Main Street, Stockbridge, MA 01262. (413) 298-3137.

For Directions: please call Mr. Scott Phelps at (413) 243-5963.

SD1, which outlines the subject areas to be addressed in the environmental document, was mailed to the individuals and entities on the Commission's mailing list. Copies of SD1 will be available at the scoping meetings, or may be viewed on the Web at http://www.ferc.gov, using the “eLibrary” link. Follow the directions for accessing information in paragraph n. Depending on the extent of comments received, Scoping Document 2 may or may not be issued.

Site Visit

MeadWestvaco will conduct a site visit of the project on Wednesday, July 12, 2006, starting at 3 p.m. All participants should meet at the Willow Mill located off Willow Street on the south side of the Housatonic River. All participants are responsible for their own transportation. Anyone with questions about the site visit should contact Mr. Scott Phelps of MeadWestvaco at (413) 243-5963 on or before July 7, 2006.

Scoping Meeting Objectives

At the scoping meetings, staff will: (1) Present a proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the PAD in preparation for the scoping meetings. Directions on how to obtain a copy of the PAD and SD1 are included in item n of this document.

Scoping Meeting Procedures

The meetings will be recorded by a stenographer and will become part of the formal Commission record on the project.

Magalie R. Salas,
Secretary.

[FR Doc. E6-9774 Filed 6-20-06; 8:45 am]

BILLING CODE 6717-01-P